DEPARTMENT OF HEALTH AND HUMAN SERVICES

Office of the Secretary

Notice of Meeting: Secretary's Advisory Committee on Genetics, Health, and Society

Pursuant to Public Law 92-463, notice is hereby given of the sixth meeting of the Secretary's Advisory Committee on Genetics, Health, and Society (SACGHS), U.S. Public Health Service. The meeting will be held from 8:30 a.m. to 5:30 p.m. on February 28, 2005 and 8:30 a.m. to 5 p.m. on March 1, 2005 at the Bethesda North Marriott Hotel, 5701 Marinelli Road, North Bethesda, Maryland. The meeting will be open to the public with attendance limited to space available. The meeting will be webcast.

The meeting is expected to include presentations and deliberations on several topics, including the following: a revised draft report with recommendations about coverage and reimbursement for genetic technologies and services; current and proposed efforts to understand gene-environment interactions through large population studies; the Committee's efforts to explore stakeholder perspectives on the need for Federal legislation to prevent genetic discrimination in health insurance and employment; the recommendations of the Advisory Committee on Heritable Disorders and Genetic Diseases in Newborns and Children regarding the provision of screening, counseling and health care services for newborns and children having or at risk for heritable disorders; and efforts to improve the quality of laboratory testing for rare diseases. Time will be provided each day for public comments.

Under authority of 42 U.S.C. 217a, Section 222 of the Public Health Service Act, as amended, the Department of Health and Human Services established SACGHS to serve as a public forum for deliberations on the board range of human health and societal issues raised by the development and use of genetic technologies and, as warranted, to provide advice on these issues. The draft meeting agenda and other information about SACGHS, including information about access to the webcast, will be available at the following Web site: http://www4.od.nih.gov/oba/sacghs.htm.

The Committee would welcome hearing from anyone wishing to provide public comment on any issue related to genetics, health and society. Individuals who would like to provide public comment or who plan to attend the meeting and need special assistance, such as sign language interpretation or other reasonable accommodations, should notify the SACGHS Executive Secretary, Ms. Sarah Carr, by telephone at 301-496-9838 or e-mail at sc112c@nih.gov. The SACGHS office is located at 6705 Rockledge Drive, Suite 750, Bethesda, MD 20892.

Dated: January 27, 2005.
LaVerne Stringfield,
Director, Office of Federal Advisory Committee Policy.

[FR Doc. 05-2129 Filed 2-3-05; 8:45 am]

BILLING CODE 4140-01-M